DEPARTMENT OF AGRICULTURE

Submission for OMB Review; Comment Request

December 7, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 12, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Housing Service

Title: Fire and Rescue Loans—7 CFR 1942, Subpart C, “Fire and Rescue Loans and Other Small Community Facilities Projects”.

OMB Control Number: 0575-0120.

Summary of Collection: The Rural Housing Service (RHS) is authorized by Section 306 of the Consolidated Farm and Rural Development Act (7 U.S.C. 1926) to make loans to public agencies, nonprofit corporations, and Indian tribes for the development of essential community facilities primarily servicing rural residents. The primary regulation for administering this Community Facility program is 7 CFR 1942-A. The Community Facilities program has been used to finance about 100 different types of facilities varying in size and complexity from fire trucks to hospitals. A significant portion of the loans made have been used for public safety to finance fire stations, fire trucks, ambulances, and rescue facilities and other small Community Facilities projects. The information must be collected to determine eligibility, analyze financial feasibility, take security, monitor the use of loan funds, and monitor the financial condition of borrowers, and otherwise assisting borrowers.

Need and Use of the Information: The Rural Development requires that an application form SF-424 be completed by applicant/borrowers with each application package in addition to other necessary information. This form gives basic information regarding the applicant, including the type of loan/grant assistance they are seeking. This information will be used to determine applicant/borrower eligibility, project feasibility, and ensure borrowers operate on a sound basis and use loan funds for authorized purposes.

Description of Respondents: Business or other for-profit; Not-for-profit institutions; State, Local or Tribal Government.

Number of Respondents: 2,968.

Frequency of Responses: Reporting: On occasion; Quarterly; Annually.

Total Burden Hours: 24,865.

Rural Housing Service

Title: 7 CFR 1902-A, Supervised Bank Accounts.

OMB Control Number: 0575-0158.

Summary of Collection: 7 CFR 1902-A, Supervised Bank Accounts (SBA), prescribes the policies and procedures for disbursing loan and grant funds, establishing and closing supervised accounts, and placing Multi-Family housing reserve accounts in supervised accounts. The Rural Business Service extends financial assistance to applicants that do not qualify for loans under commercial rates and terms. The Rural Housing Service (RHS) is the credit agency for agriculture and rural development in USDA. Supervised accounts are accounts with a financial institution in the names of a borrower and the United States Government, represented by Rural Housing Service, Rural Business-Cooperative Service, Rural Utilities Service, (Agency). Section 339 of the Consolidated Farm and Rural Development Act, 7 U.S.C. 1989 and Section 510 of the Housing Act of 1949, as amended, (42 U.S.C. 1480) is the legislative authorities requiring the use of supervised accounts.

Need and Use of the Information: The agency's state and field offices will collect information from borrowers and financial institutions. The Agency use SBA's as a mechanism to (1) ensure correct disbursement and expenditure of all funds designated for a project; (2) help a borrower properly manage its financial affairs; (3) ensure that the Government's security is protected adequately from fraud, waste and abuse. The consequence to Federal program and policy activities if the collection of information was not conducted would be detrimental to both the Government and to borrowers.

Description of Respondents: Business or other for-profit.

Number of Respondents: 15,000.

Frequency of Responses: Reporting: On occasion.

Total Burden Hours: 26,169.

Rural Housing Service

Title: 7 CFR part 3565, “Guaranteed Rural Rental Housing Program” and Its Supporting Handbook.

OMB Control Number: 0575-0174.

Summary of Collection: On March 28, 1996, the Housing Opportunity Program Extension Act of 1996 was signed. One of the provisions of the Act was the authorization of the section 538 Guaranteed Rural Rental Housing Program (GRRHP), adding the program to the Housing Act of 1949. The purpose of the GRRHP is to increase the supply of affordable rural rental housing through the use of loan guarantees that encourage partnerships between the Rural Housing Service (RHS), private lenders and public agencies. RUS will approve qualified lenders to participate and monitor lender performance to ensure program requirements are met. RHS will collect information from lenders on the eligibility cost, benefits, feasibility, and financial performance of the proposed project.

Need and Use of the Information: RHS will collect information from lenders to manage, plan, evaluate, and account for Government resources and from time to time, propose demonstration programs that use loan guarantees or interest credit. The GRRHP regulation and handbook will provide lenders and agency staff with guidance on the origination, and servicing of GRRHP loans and the approval of qualified lenders. RHS will use the information to evaluate a lender's request and make determination that the interests of the government are protected. Failure to collect information could have an adverse impact on the agency ability to monitor lenders and assess program effectiveness and effectively guarantee loans.

Description of Respondents: Business or other for-profit; Not-for-profit Institutions.

Number of Respondents: 150.

Frequency of Responses: Reporting: Quarterly; Monthly; Annually.

Total Burden Hours: 2,059.

Rural Housing Service

Title: RD 1951-65, “Customer Initiated Payments”, RD 1951-66, “FedWire Worksheet”, and 3550-28, “Authorization Agreement for Preauthorization Payments”.

OMB Control Number: 0575-0184.

Summary of Collection: Rural Development (RD) uses electronic methods for receiving and processing loan payments and collections. These electronic collection methods are approved by Treasury and include Preauthorized Debits (PAD), Customer Initiated Payments (CIP), and FedWire. These electronic collection methods provide the borrower the ability to submit their loan payments the day prior to, or the day of their installment due date. To administer these electronic payment methods, RD will use approved agency forms for collecting financial institution routing information. Form RD 3550-28, Authorization Agreement for Preauthorized Payments, is prepared by the borrower to authorized RD to electronically collect regular loan payments from a borrower's account at a financial institution (FI) as preauthorized debits. Form RD 1951-65, is prepared by the borrower to enroll in CIP. CIP is an electronic collection method that enables borrowers to input payment data to a contract bank via telephone (touch tone and voice) or computer terminal. Form RD 1951-66, FedWire Worksheet, is completed by the borrower to establish an electronic FedWire format with their FI.

Need and Use of the Information: RD will request that borrowers make payments electronically via PAD, CIP, or FedWire. The information is collected only once unless the FI routing information changes. If the information were not collected, RD would be unable to collect loan payments electronically.

Description of Respondents: Not-for-profit institutions; Business or other for-profit; State, Local or Tribal Government.

Number of Respondents: 8,260.

Frequency of Responses: Reporting: On occasion.

Total Burden Hours: 4,242.

Ruth Brown,
Departmental Information Collection Clearance Officer.

[FR Doc. 2017-26786 Filed 12-12-17; 8:45 am]

BILLING CODE 3410-XV-P